SMALL BUSINESS ADMINISTRATION

Regulatory Fairness Hearing, Region III—Virginia Beach, Virginia

AGENCY: U.S. Small Business Administration (SBA).

ACTION: Notice of open Hearing of Region III Small Business Owners in Virginia Beach, VA.

SUMMARY: The SBA, Office of the National Ombudsman is issuing this notice to announce the location, date and time of the Virginia Beach, VA Regulatory Fairness Hearing. This hearing is open to the public.

DATES: The hearing will be held on Tuesday, March 24, 2015, from 10:00 a.m. to 12:00 p.m. (EDT).

ADDRESSES: The hearing will be at the Meyera Oberndorf Library Auditorium, 4100 Virginia Beach Boulevard, Virginia Beach, VA 23452.

SUPPLEMENTARY INFORMATION: Pursuant to the Small Business Regulatory Enforcement Fairness Act (Pub. L. 104-121), Sec. 222, SBA announces the hearing for Small Business Owners, Business Organizations, Trade Associations, Chambers of Commerce and related organizations serving small business concerns to report experiences regarding unfair or excessive Federal regulatory enforcement issues affecting their members.

FOR FURTHER INFORMATION CONTACT: The hearing is open to the public; however, advance notice of attendance is requested. Anyone wishing to attend and/or make a presentation at the Virginia Beach, VA hearing must contact José Méndez by March 17, 2015 in writing, or by fax or email in order to be placed on the agenda. For further information, please contact José Méndez, Case Management Specialist, Office of the National Ombudsman, 409 3rd Street SW., Suite 7125, Washington, DC 20416, by phone (202) 205-6178 and fax (202) 481-5719. Additionally, if you need accommodations because of a disability, translation services, or require additional information, please contact José Méndez as well.

For more information on the Office of the National Ombudsman, see our Web site at www.sba.gov/ombudsman.

Dated: February 9, 2015.
Diana Doukas,
SBA Committee Management Officer.

[FR Doc. 2015-03220 Filed 2-17-15; 8:45 am]

BILLING CODE 8025-01-P